DEPARTMENT OF AGRICULTURE

Rural Business-Cooperative Service

[Docket No. RBS-21-Business-0030]

Notice of Funding Opportunity for the Rural Energy Pilot Grants Program (REPP) for Fiscal Year 2022

AGENCY: Rural Business-Cooperative Service, USDA.

ACTION: Notice.

SUMMARY: The Rural Business-Cooperative Service (Agency) announces the availability of up to $10 million in competitive grants awarded to Rural Energy Community Partnerships (RECP) to further develop renewable energy to help meet our nation's energy needs and combat climate change while prioritizing environmental justice, racial equity, and economic opportunity. Cost-share grants of up to 80 percent of total eligible project costs but not more than $2 million will be made available to assist eligible entities with planning, installing, equipping, and maintaining community scale distributed renewable energy technologies, systems and resources.

DATES: Prior to the submission of an application, the Agency requires prospective applicants to inform the Agency by submitting a letter of intent electronically by no later than 11:59 p.m. Eastern time, April 19, 2022, to be eligible for grant funding. A Guide and instructions for submitting the Required Letter of Intent are available on the Rural Energy Pilot Program website, under the To Apply tab, https://www.rd.usda.gov/programs-services/energy-programs/rural-energy-pilot-program. Letters of Intent received prior to the deadline will be reviewed and afforded a response by the Agency. On or before May 19, 2022, the Agency will send a letter of response. Prospective applicants are invited to submit a complete application electronically no later than 11:59 p.m. Eastern time, July 18, 2022, to be eligible for grant funding. Please refer to Section IV., of this Notice for content and format of required letters of intent and complete applications.

Prospective applicants are encouraged to review the REPP website for instructions on registering their organization as early as possible in order to meet the electronic application deadline. Applications submitted after the deadline will not be accepted, are not eligible for funding under this Notice, and will not be considered.

ADDRESSES: This funding opportunity will be posted to https://www.grants.gov. Potential applicants should review https://www.rd.usda.gov/programs-services/energy-programs/rural-energy-pilot-program, for requirements for electronic submission. Applicants must submit their application electronically. Electronic submissions of applications will allow for the expeditious review of an applicant's proposal.

FOR FURTHER INFORMATION CONTACT: Anthony Crooks: telephone (202) 205-9322, email: RuralEnergyPilotProgram@usda.gov. Persons with disabilities that require alternative means for communication should contact the U.S. Department of Agriculture (USDA) Target Center at (202)720-2600 (voice).

SUPPLEMENTARY INFORMATION: The Agency encourages applicants to consider projects that will advance the following key priorities (more details available at https://www.rd.usda.gov/priority-points):

• Assisting rural communities recover economically from the impacts of the COVID-19 pandemic, particularly disadvantaged communities.

• Ensuring all rural residents have equitable access to Rural Development (RD) programs and benefits from RD funded projects.

• Reducing climate pollution and increasing resilience to the impacts of climate change through economic support to rural communities.

The Agency advises all interested parties that the applicant bears the burden in preparing and submitting an application in response to this Notice.

Overview

Federal Agency: Rural Business-Cooperative Service (RBCS).

Funding Opportunity Title: Rural Energy Pilot Grant Program (REPP).

Announcement Type: Notice of Funding Opportunity.

Assistance Listing Number: 10.379.

Funding Opportunity Number): RBCS-REPP-2021.

Dates: Letters of intent must be received as specified in the DATES section of this Notice, as a prerequisite to filing a complete application.

Applicants receiving a letter of encouragement must submit a complete application as specified in the DATES section of this Notice to be eligible for grant funding.

The application guide provides specific, detailed instructions for each item of a complete application. The Agency emphasizes the importance of including every item and strongly encourages applicants to follow the instructions carefully.

Hemp related projects: Please note that no assistance or funding from this grant can be provided to a hemp producer unless they have a valid license issued from an approved State, Tribal or Federal plan as defined by the Agriculture Improvement Act of 2018, Public Law 115-334. Verification of valid hemp licenses will occur at the time of award.

The Agency will neither solicit nor consider new scoring or eligibility information submitted after the application deadline. The Agency reserves the right to contact applicants to seek clarification on materials contained in the submitted application.

Items in Supplementary Information

I. Program Overview

II. Federal Award Information

III. Eligibility Information

IV. Application and Submission Information

V. Application Review Information

VI. Federal Award Administration Information

VII. Federal Awarding Agency Contacts

VIII. Other Information

I. Program Overview

A. Background

The Consolidated Appropriations Act, 2021 (Pub. L. 116-260) authorized and appropriated $10 million to remain available until expended for the Secretary of Agriculture to carry out a pilot program to provide financial assistance for rural communities to further develop renewable energy. Prior to publishing this Notice, RBCS (the Agency) determined it to be in the public interest to solicit informal comments from the public and interested stakeholders to help develop options for the Rural Energy Pilot Program (REPP) to support the nation's critical energy needs to combat climate change while advancing environmental justice, racial equity, and economic opportunity through the development and deployment of distributed energy technologies, innovations, and solutions.

A Request for Information and Notice of Stakeholder Listening Session on a Rural Energy Pilot Program was published in the Federal Register (86 FR 16575) on March 30, 2021. Information received from the public was intended to inform the Agency as well as the private sector and other stakeholders with interest in and expertise relating to such an effort in order to build on prior investments and experience gained through past small-scale energy solutions, social justice reforms, and climate change mitigation programs.

Seventy-five (75) comments were submitted from the public which served to inform the Agency on an array of issues, including but not limited to: Program purposes, goals, metrics and standards; eligible applicants, participants and partners, including but not limited to: Communities, residences, industry, and commercial entities; eligible technologies, including but not limited to, generation, storage, microgrid controllers and transmission grids; potential impact of the pilot program and renewable energy systems on each of the following: environmental justice, racial equity, and economic opportunity; and options to measure and maximize the benefits of renewable energy systems for environmental justice, racial equity, and economic opportunity in rural areas.

Additionally, on May 13, 2021, the Agency convened a Federal Inter-Agency Task Force of experts with relevant knowledge, including technical experts from the Environmental Protection Agency, Department of Energy, National Renewable Energy Laboratory, Pacific Northwest National Laboratory, and the Appalachian Regional Commission to assist with the review of the public comments and provide recommendations for the guiding principles of this Notice.

B. Program Description

The purpose of the REPP is to provide financial assistance for rural communities to further develop renewable energy. Grants are awarded on a competitive basis.

Under the REPP, funds will be awarded to assist Rural Energy Community Partnerships (RECP) to establish and develop clean energy communities through the deployment of community-scale distributed energy technologies, innovations and solutions.

The maximum grant award amount per applicant is $2,000,000. Grant funds may be used to pay for up to 80 percent of eligible project costs directly related to:

• Commercially-available, community-based, community scale distributed renewable energy systems; and

• Community energy planning, capacity building, technical assistance, efficiency and weatherization (up to 20 percent of awarded funds per funding request).

In its application an RECP will describe its proposal to establish a clean energy community. A proposal may include purposes such as but are not limited to community energy planning, capacity building, and technical assistance, community efficiency and weatherization and the deployment, installation, or equipping of community-scale renewable energy technologies or systems. Applicants will describe the goals and objectives to be achieved through RECP's efforts at the completion of REPP grant period. These objectives may include but are not limited to the ability to withstand disruptive events, economic and energy resilience, increased environmental justice, improved racial equity, expanded economic opportunity, and the stability or diversification of distributive energy resources.

Applicants will propose performance measures that express successes and challenges of meeting the RECP's goals and objectives and report its accomplishments during the grant period and provide annual outcome reports for three years after project completion. Performance measures may include but are not limited to renewable energy generation and energy efficiency/energy savings (measured in kilowatt hours), project sustainability and resilience measured by inclusion of institutional partners and continued commitment of project financing, and community benefits measured in terms of power purchase agreement/subscription income (in dollars per kilowatt hour), reduced greenhouse gas/carbon dioxide emissions (in metric tons of CO2 equivalence), reduced energy burdens (in percentage of household incomes), measured environmental justice, measured equity, measured economic opportunity, etc.

C. Definitions of Terms

Applicant. The lead applicant entity acting on behalf of a rural energy community partnership that is seeking a REPP grant. The lead applicant will enter into a financial assistance agreement with the Agency in order to receive the REPP grant funding and will be responsible to administer the REPP grant in accordance with said agreement. All rights, responsibilities, and the disposition thereof pertaining to ownership and control of any assets acquired by the partnership are presumed to reside with the Applicant unless otherwise specified in a fully executed partnership agreement.

Capacity building. The process by which individuals, communities and organizations obtain, improve and retain the skills, knowledge, tools, equipment and other resources needed to achieve long-term, sustainable success.

Center for Disease Control, CDC/ATSDR Social Vulnerability Index (CDC/ATSDR SVI). A tool that uses U.S. Census data to determine the social vulnerability of every census tract. ATSDR's Geospatial Research, Analysis & Services Program (GRASP) maintains the CDC/ATSDR SVI to help public health officials and local planners better prepare for and respond to emergency events like hurricanes, disease outbreaks, or exposure to dangerous chemicals. Documentation for all versions of the CDC/ATSDR SVI can be found on the CDC Data & Documentation Download page.

Center for Disease Control, Socially Vulnerable Community. A community determined to be socially vulnerable as per the CDC/ATSDR Social Vulnerability Index (CDC/ATSDR SVI).

Commercially available technology. A technology system that meets the requirements of either paragraph (1) or (2) of this definition.

(1) A domestic or foreign system that:

(i) Has both a proven and reliable operating history and proven performance data for at least 1 year specific to the use and operation of the proposed application;

(ii) Is based on established design and installation procedures and practices and is replicable;

(iii) Has professional service providers, trades, large construction equipment providers, and labor who are familiar with installation procedures and practices;

(iv) Has proprietary and balance of system equipment and spare parts that are readily available;

(v) Has service that is readily available to properly maintain and operate the system; and

(vi) Has an existing established warranty that is valid in the United States for major parts and labor.

(2) A domestic or foreign renewable energy system that has been certified by a recognized industry organization whose certification standards are acceptable to the Agency. A renewable energy system is considered to have demonstrated commercial availability if it has been certified by a recognized industry organization whose certification standards are acceptable to the Agency.

Examples of recognized industry organization whose certification standards are acceptable to the Agency include, but are not limited to:

(i) Small Wind Certification Council, http://smallwindcertification.org/;

(ii) Solar Rating and Certification Corporation, http://www.solar-rating.org/;

(iii) Florida Solar Energy Center, http://www.fsec.ucf.edu/en/;

(iv) American Wind Energy Association, http://www.awea.org/; and

(v) Intertek Small Wind Certification Program, http://www.intertek.com/wind/small/directory/.

Community. An organized group of individuals or business owners located in relatively the same area or having particular characteristics in common.

Community efficiency and weatherization. Community-based activities purposed to reduce energy costs for primarily low-income households by increasing the energy efficiency of their homes, while also ensuring their health and safety. Such activities include, but are not limited to, analysis and actions that would improve efficiency or weatherization based on that analysis, of all building systems —the building envelope, heating and cooling systems, electrical system, and electric baseload appliances.

Community energy plan. An economic development document focused on a region or municipality's energy costs, energy services, energy generation, consumption and service delivery. The community energy plan is a central component of the RECP action plan.

Community scale energy. A renewable energy project or purchasing program, within a defined geographic area, in which the benefits of the project flow to multiple customers such as individuals, businesses, nonprofits and other groups. To be a “community-scale” energy system, the generation must be managed by, or the generation project must at least be instigated by, a community that is engaged in some of the stages of: land-use planning, acquisition and installation of renewable equipment, maintenance and operation of this equipment, and the sale of energy, either electricity or heat, from it. With respect to size, community energy includes projects between the sizes of approximately fifty kilowatts to two megawatts which is substantially less generation than utility-scale installations, but more generation than would be used by the typical single end-user. Projects may be located on more than one site and have more than one user, e.g., solar panels or small- to medium-sized wind turbines could be installed on separate properties and sent to a common transformer, or the equipment could be constructed within a common area, such as a public park.

Complete application. An application that contains all parts necessary for the Agency to determine applicant and project eligibility, score the application, and, where applicable, enable the Agency to determine the technical merit of the project.

Disadvantaged communities. Refers to the “disadvantaged communities that have been historically marginalized and overburdened by pollution and underinvestment in housing, transportation, water and wastewater infrastructure, and health care,” in Executive Order 14008, “Executive Order on Tackling the Climate Crisis at Home and Abroad,” January 27, 2021.

Distressed energy communities. Twenty-five priority geographic areas hard-hit by declines in coal production and consumption and vulnerable to further economic distress with the closure of remaining coal mines and coal power plants. These areas are identified by the President's Interagency Working Group, established by Executive Order 14008, as prioritized for near-term investment using existing Federal agency programs and funding from the FY2021 Budget and the American Rescue Plan, as specified in the “Initial Report to the President on Empowering Workers Through Revitalizing Energy Communities,” Appendix B. Counties Within Priority Communities, Areas With High Concentrations Of Direct Coal Sector Jobs (https://netl.doe.gov/sites/default/files/2021-04/Initial%20Report%20on%20Energy%20Communities_Apr2021.pdf).

Distressed rural communities. Economically distressed communities located in rural areas.

Distributed renewable energy resources (DER). Small-scale units of power generation that operate locally and may be connected to a larger power grid at the distribution level, but may also operate independently or off the grid. Some examples of DER include but are not limited to: Solar photovoltaic panels, small wind, small biogas-fueled generators, electric vehicles and controllable loads, such as heating, ventilation and air conditioning (HVAC) systems and electric water heaters. An important distinction of a DER is that the energy it produces is often consumed close to the source. When using renewable power sources, the intermittent nature of some resources creates a need for using multiple renewable resources, as well as a means to tie them together, manage and store their output. Energy storage technologies such as batteries and fly wheels are generally necessary for hardware such as wind and other turbine types, solar panels, and tidal generation units. To get the most out of the energy produced, these power sources and storage devices need to be managed by way of electronic management devices, which include inverters and software such as Storage Distributed Resource Schedulers (SDRS).

DERs are commonly used to manage a number of smaller power generation and storage methods in residential, commercial and industrial sectors. They may be used by utility providers, businesses and individuals in the production and storage of renewable power or for backup power sources. These technologies are fundamental requirements of more advanced power grids such as smart grids and as such are considered eligible technologies for the purposes of the REPP.

District organization. An organization as defined in Section 300.3 of Title 13, Code of Federal Regulations (or a successor regulation).

Economically distressed communities. Communities identified by the Internal Revenue Service as Qualified Opportunity Zones; communities identified as disadvantaged or underserved communities by their respective States; communities identified on the Index of Deep Disadvantage referenced at https://news.umich.edu/new-index-ranks-americas-100-most-disadvantagedcommunities/, and communities that otherwise meet the definition of “underserved communities” as stated in this section.

Economic opportunity. A business situation or community circumstance which lends itself to the furtherance of the economic interests of the area and the local community by providing a catalyst or stimulus to growth or retention of commerce and industry in the area.

Energy burden. The percentage of gross household income spent on energy costs.

Environmental justice. The fair treatment and meaningful involvement of all people regardless of race, color, national origin, or income with respect to the development, implementation and enforcement of environmental laws, regulations and policies, and the equitable distribution of environmental benefits. Fair treatment means no group of people should bear a disproportionate share of the negative environmental consequences resulting from industrial, governmental, and commercial operations or policies. Meaningful involvement means people have an opportunity to participate in decisions about activities that may affect their environment or health.

Equity. The consistent and systematic fair, just and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality as established in Executive Order 13985, “Advancing Racial Equity and Support for Underserved Communities Through the Federal Government” (Jan. 20, 2021).

Indian Tribe. means the term as defined in 25 U.S.C. 5304(e).

Opportunity Zone Communities. Economically distressed communities, as defined by individual census tract, nominated by America's governors, and certified by the U.S. Secretary of the Treasury via a delegation of authority to the Internal Revenue Service. Under certain conditions, new investments in Opportunity Zones may be eligible for preferential tax treatment. There are 8,764 Opportunity Zone Communities in the United States.

Rural or rural area. An area of a State not in a city or town that has a population of more than 50,000 inhabitants, and which excludes certain populations pursuant to 7 U.S.C. 1991(a)(13)(H), according to the latest decennial census of the United States and not in the urbanized area contiguous and adjacent to a city or town that has a population of more than 50,000 inhabitants. In making this determination, the Agency will use the latest decennial census of the United States. The following exclusions apply:

(1) Any area in the urbanized area contiguous and adjacent to a city or town that has a population of more than 50,000 inhabitants that has been determined to be “rural in character” as follows:

(i) The determination that an area is “rural in character” will be made by the Under Secretary of Rural Development. The process to request a determination under this provision is outlined in paragraph (1)(ii) of this definition. The determination that an area is “rural in character” under this definition will apply to areas that are within:

(A) An urbanized area that has two points on its boundary that are at least 40 miles apart, which is not contiguous or adjacent to a city or town that has a population of greater than 150,000 inhabitants or the urbanized area of such a city or town; or

(B) An urbanized area contiguous and adjacent to a city or town of greater than 50,000 inhabitants that is within ¼ mile of a rural area.

(ii) Units of local government may petition the Under Secretary of Rural Development for a “rural in character” designation by submitting a petition to the appropriate Rural Development State Director for recommendation to the Administrator on behalf of the Under Secretary. The petition shall document how the area meets the requirements of paragraph (1)(i)(A) or (B) of this definition and discuss why the petitioner believes the area is “rural in character,” including, but not limited to, the area's population density, demographics, and topography and how the local economy is tied to a rural economic base. Upon receiving a petition, the Under Secretary will consult with the applicable governor or leader in a similar position and request comments to be submitted within 5 business days, unless such comments were submitted with the petition. The Under Secretary will release to the public a Notice of a petition filed by a unit of local government not later than 30 days after receipt of the petition by way of publication in a local newspaper and posting on the Agency's website at https://www.rd.usda.gov/onerdguarantee, and the Under Secretary will make a determination not less than 15 days, but no more than 60 days, after the release of the Notice. Upon a negative determination, the Under Secretary will provide to the petitioner an opportunity to appeal a determination to the Under Secretary, and the petitioner will have 10 business days to appeal the determination and provide further information for consideration. The Under Secretary will make a determination of the appeal in not less than 15 days, but no more than 30 days.

(iii) Rural Development State Directors may also initiate a request to the Under Secretary to determine if an area is “rural in character.” A written recommendation should be sent to the Administrator, on behalf of the Under Secretary, that documents how the area meets the statutory requirements of paragraph (1)(i)(B) of this definition and discusses why the State Director believes the area is “rural in character,” including, but not limited to, the area's population density, demographics, topography, and how the local economy is tied to a rural economic base. Upon receipt of such a request, the Administrator will review the request for compliance with the “rural in character” provisions and make a recommendation to the Under Secretary. Provided a favorable determination is made, the Under Secretary will consult with the applicable Governor and request comments within 10 business days, unless gubernatorial comments were submitted with the request. A public Notice will be published by the State Office in accordance with paragraph (1)(ii) of this definition. There is no appeal process for requests made on the initiative of the State Director.

(2) An area that is attached to the urbanized area of a city or town with more than 50,000 inhabitants by a contiguous area of urbanized census blocks that is not more than two census blocks wide. Applicants from such an area should work with their Rural Development State Office to request a determination of whether their project is located in a rural area under this provision.

(3) For the Commonwealth of Puerto Rico, the island is considered Rural and eligible except for the San Juan Census Designated Place (CDP) and any other CDP with greater than 50,000 inhabitants. Areas within CDPs with greater than 50,000 inhabitants, other than the San Juan CDP, may be determined to be Rural if they are “not urban in character.”

(4) For the State of Hawaii, all areas within the State are considered rural and eligible except for the Honolulu CDP within the County of Honolulu and any other CDP with greater than 50,000 inhabitants. Areas within CDPs with greater than 50,000 inhabitants, other than the Honolulu CDP, may be determined to be Rural if they are “not urban in character.”

(5) For the purpose of defining a rural area in the Republic of Palau, the Federated States of Micronesia, and the Republic of the Marshall Islands, the Agency shall determine what constitutes rural and rural Area based on available population data.

Rural community. A community located in a rural area.

Rural energy community partnership (RECP). A partnership established to provide assistance to an identified community for purposes as specified in this Notice. Such purposes include but are not limited to: Community energy planning, capacity building, and technical assistance, community efficiency and weatherization and the deployment, installation, or equipping of community-scale renewable energy technologies or systems. The partnership must be comprised of at least two entities: A lead applicant entity (the Applicant) that satisfies section III. A(b) of this Notice, and one or more partner entities that satisfies section III. A(a) of this Notice. The applicant and partner entities as well as the partnership itself, are permitted to be pass-through entities and so must comply with 2 CFR 200.330 through 200.332. A partner entity may be considered a contracting entity hired to perform services. The partnership need not be located in the identified community but must demonstrate that it is actively engaged with members of the community and must provide assistance specifically to the identified community.

State. Any of the 50 States of the United States, the Commonwealth of Puerto Rico, the District of Columbia, the U.S. Virgin Islands, Guam, American Samoa, the Commonwealth of the Northern Mariana Islands, the Republic of Palau, the Federated States of Micronesia, and the Republic of the Marshall Islands.

Technical assistance. Managerial, financial and operational analysis and consultation by qualified independent providers to assist project owners in identifying and evaluating problems or potential problems and to provide training that enables project owners to successfully implement, manage, operate and maintain viable projects.

Underserved communities. Populations sharing a particular characteristic, as well as geographic communities, that have been systematically denied a full opportunity to participate in aspects of economic, social and civic life, as exemplified by the list in the definition of “equity.” Communities (including urban or rural communities and Indian tribal communities) that have limited access to affordable, healthy foods, including fresh fruits and vegetables, in grocery stores or farmer-to-consumer direct markets and that have either a high rate of food insecurity or a high poverty rate as reflected in the most recent decennial census or another Agency-approved census. For purposes of this Notice, an underserved community also refers to a community with environmental justice concerns or vulnerable populations, including people of color, low income, rural, tribal, indigenous, and homeless populations that may be disproportionately impacted by environmental harms and risks and has a local environmental or public health issue that is identified in the applicant's required letter of intent or complete application.

Used equipment. Any equipment that has been used in any previous application and is provided in an “as is” condition.

II. Federal Award Information

Type of Award: Competitive Grant.

Available Funds: Under REPP, up to $10 million is made available until expended, to eligible participants. Of the total amount of available funds, not more than 20 percent or $2 million (or $400,000 on any individual award) is available for eligible project costs related to community energy planning, capacity building, technical assistance, community efficiency and weatherization. The balance of available funds but not less than 80 percent or $8 million is available for eligible project costs related to the deployment, installation or equipping of community-scale renewable energy systems, technologies or resources.

Minimum Award: There is no minimum award.

Maximum Award: $2,000,000.

Anticipated Award Date: Spring 2022.

Approximate Number of Awards: The number of awards will depend on the number of eligible participants and the total amount of requested funds. Should every successful applicant be awarded the maximum amount available of $2 million, five awards will be made.

III. Eligibility Information

A. Eligible Applicants

Applicants must meet all the following eligibility requirements. Applications which fail to meet any of these requirements by the application deadline will be deemed ineligible and will not be considered.

(a) Eligible applicants to this program must be a RECP as defined in Section I.C. of this Notice, which may be comprised of, but are not limited to:

(1) Private entities;

(2) State and local entities;

(3) Indian Tribes;

(4) Municipalities and other public bodies.

(b) The RECP must have a lead applicant who is responsible for the administration of the grant proceeds and activities. A lead applicant must be one of the following entities:

(1) A District Organization;

(2) An Indian Tribe, or a political subdivision of an Indian Tribe, including a special purpose unit of an Indian Tribe, or a consortium of Indian Tribes;

(3) A State or a political subdivision of a State, including a special purpose unit of a State or local government engaged in economic development activities, or a consortium of political subdivisions; or

(4) A public or private nonprofit organization.

(c) Applicants must also meet the following requirements:

(1) Applicants must not have been debarred, suspended or otherwise excluded from, or ineligible for participation in, Federal assistance programs under Executive Order 12549, “Debarment and Suspension.” The Agency will check the Do Not Pay Portal (DNP) at the time of application and prior to funding any grant award to determine if the applicant has been debarred or suspended. In addition, an applicant will be considered ineligible for a grant due to an outstanding judgment obtained by the Government in a Federal Court (other than U.S. Tax Court), is delinquent on the payment of Federal income taxes, or is delinquent on Federal debt. The applicant must certify as part of the application that they do not have an outstanding judgment against them. The Agency will check the Do Not Pay System at the time of application and also prior to funding any grant award to verify this information.

(2) Any corporation must not have been convicted of a felony criminal violation under any Federal law within the past 24 months or have any unpaid Federal tax liability that has been assessed, for which all judicial and administrative remedies have been exhausted or have lapsed, and that is not being paid in a timely manner pursuant to an agreement with the authority responsible for collecting the tax liability, unless a Federal agency has considered suspension or debarment of the corporation and has made a determination that this further action is not necessary to protect the interests of the Government.

B. Eligible Project

The purpose of the REPP is to provide financial assistance for rural communities to further develop renewable energy to help meet our nation's energy needs and combat climate change while prioritizing environmental justice, racial equity and economic opportunity.

To be eligible for this program, projects must contribute to the establishment or development of clean energy communities through the deployment of community-scale distributed renewable energy technologies or systems. Community scale means no larger than 2 megawatts in generation capacity, as defined in Section I. C. of this Notice. Eligible technologies are commercially available renewable energy systems e.g., wind, solar, geothermal, hydroelectric, biomass or bioenergy, and distributed renewable energy resources as defined in Section I. C. of this Notice.

C. Priority Considerations

(a) Targeted assistance priority will be afforded to:

(1) Distressed Rural Communities;

(2) Distressed Energy Communities;

(3) Communities with High Energy Burdens (as identified by the Dept. of Energy, Low-Income Energy Affordability Data (LEAD) Tool);

(4) Centers for Disease Control—Socially Vulnerable Communities;

(5) Qualified Opportunity Zone Communities; and

(6) Disadvantaged Communities.

(b) Consideration for Alternative Renewable Energy Technologies—to communities that plan, execute, or deploy renewable energy generation technologies other than solar photovoltaic of at least 40 percent of total generation capacity as measured by megawatts of alternative generation capacity/megawatts of total generation capacity.

D. Cost Sharing or Matching

REPP requires matching funds of no less than 20 percent of the total eligible project costs of any activity carried out using REPP grant funds. Applicants will certify and demonstrate that any required matching funds will be available during the grant period and provide appropriate documentation with the application, as referenced in Section IV.B of this Notice. Matching funds are those project funds required to be provided by the applicant to receive a REPP grant. The applicant is responsible for securing the remainder of the total eligible project costs not covered by grant funds. Matching funds are comprised of eligible in-kind contributions from third parties or cash. In-kind contributions by the applicants cannot be used to meet the matching fund requirement.

Written commitments for matching funds (e.g., letters of commitment and bank statements) must be submitted with the certification of matching funds when the application is submitted. Funds provided by the applicant in excess of the required matching funds are not matching funds. Passive third-party equity contributions are acceptable for REPP projects, including equity raised from the sale of Federal tax credits.

In the event of ineligible, overstated, or otherwise unsubstantiated claims in the certification of matching funds, the Agency reserves the right to adjust an application's grant request such that it is commensurate with eligible matching funds, or take otherwise action as deemed appropriate.

When calculating the matching funds requirement, round up or down to whole dollars as appropriate. To calculate the matching funds requirement, multiply the total eligible project costs of each eligible activity by 0.20. A list of requirements, inclusions, and exclusions pertaining to matching funds follows:

(1) Matching funds must meet all requirements (i)-(iv): The funds must be:

(i) Spent on eligible project costs during the grant period (see III. E.); Funds made available under REPP may be used for equipment, infrastructure, and related expenses to support the deployment of community-scale distributed renewable energy technologies.

(ii) From eligible sources;

(iii) Spent in advance or as a pro-rata portion of grant funds being spent; and

(iv) Provided by the applicant in cash, or by third parties in the form of cash or in-kind contributions.

(2) Matching funds may include (i)-(iii):

(i) Other Federal grants as authorized;

(ii) Reasonable and customary travel expenses as long as written policies are established to explain how these costs are reimbursed, including the rates for reimbursement, which shall not exceed travel rates of the Federal government; and

(iii) The number of hours worked, provided the value associated with any in-kind contribution in the form of number of hours worked which is being used to meet a matching funds requirement is documented and verified.

(3) Matching funds cannot include (i)-(vi):

(i) Other Federal grants unless provided by authorizing legislation;

(ii) Cash or in-kind contributions donated outside of the grant period;

(iii) In-kind contributions provided by those individuals, businesses or cooperatives which are being potentially benefited by the assistance requested in the application; the Agency considers this to be a conflict of interest or the appearance of a conflict of interest;

(iv) In-kind contributions that the Agency determines are overvalued;

(v) Any project costs that are ineligible under the REPP; or

(vi) Any project costs that are restricted or unallowable under 2 CFR part 200.

Applicants may arrange with public or private entities such as, but not limited to, commercial technology providers, renewable energy promotional organizations, community development organizations, or Tribes, and other such entities, to secure such non-Federal funds or in-kind contributions.

As allowed by law, Federal assistance from other programs such as the Department of Energy Weatherization Assistance Program How to Apply for Weatherization Assistance | Department of Energy, State Energy Program State Energy Program | Department of Energy, Energy Transitions Initiative Partnership Project (ETIPP), as well as assistance from AmeriCorps Energy Corps Energy Corps—Helping Design a Green-Collar Workforce and the Environmental Protection Administration, Environmental Justice Grants, may be considered as Matching funds. There are also state-led programs and private sector efforts to help provide such funding, e.g., the Database of State Incentives for Renewables & Efficiency, https://www.dsireusa.org/.

Funds from such programs may be included as part of any matching contribution requirement as long as the application demonstrates how the funds will contribute to REPP purposes and priorities and they are not ineligible as outlined above.

E. Eligible Project Costs

Eligible project costs are only those costs incurred during the grant period and that are directly related to the use and purposes of the REPP. Eligible project costs may include:

(1) Costs directly associated with activities to be carried out at or in direct partnership with the RECP including capacity building, community energy planning, technical assistance, and reporting results or outcomes to the Agency during the disbursement, performance, and annual reporting portions of this program, as well as materials, machinery and equipment associated with efficiency and weatherization, in an amount up to 20 percent of awarded funds;

(2) Retrofitting of existing, or purchase and installation of new, distributed renewable energy technologies, including any associated materials, machinery and equipment (limited to 2 megawatts; MW);

(3) Construction, retrofitting, and replacement;

(4) Fees for construction permits and licenses; and

(5) Professional service fees for qualified consultants, contractors, installers and other third-party service providers.

F. Ineligible Project Costs

The following are ineligible project costs for REPP:

(a) Used equipment;

(b) Vehicles;

(c) Business operations that derive more than 10 percent of annual gross revenue (including any lease income from space or machines) from gambling activity, excluding State or Tribal authorized lottery proceeds, conducted for the purpose of raising funds for the approved project as approved by the Agency;

(d) Business operations deriving income from activities of a sexual nature or illegal activities;

(e) Real property or land;

(f) Lease payments including lease to own and capitalized leases;

(g) Any project that creates or appears to be a conflict of interest. Conflict of interest, for purposes of this program includes, but is not limited to:

(i) Distribution or payment of grant and matching funds to an individual owner, partner, or stockholder, or to a beneficiary or immediate family of the applicant when the recipient will retain any portion of ownership in the applicant's or borrower's project. Grant and matching funds may not be used to support costs for services or goods going to, or coming from, a person or entity with a real or apparent conflict of interest.

(ii) Assistance to employees, relatives and associates. The Agency will process any requests for assistance under this subpart in accordance with 7 CFR part 1900, subpart D.

(iii) No member of or delegate to Congress shall receive any share or part of this grant or any benefit that may arise there from; but this provision shall not be construed to bar, as a contractor under the grant, a publicly held corporation whose ownership might include a member of Congress. The U.S. Department of Agriculture Departmental Regulations that contain other compliance requirements are referenced in paragraphs VI. and VIII., of this Notice. Applicants who are found to be or have been in violation of applicable Federal laws will be deemed ineligible;

(h) Funding of political or lobbying activities;

(i) Using funds to pay off any Federal direct or guaranteed loan or any other form of Federal debt;

(j) Any incurred expense, equipment purchase or paid service prior to the grant period; and

(k) Any expense associated with applying for this program except as described in E(1);

G. Other Eligibility Requirements

(a) Completeness. Applications that fail to meet all eligibility criteria by the application deadline or that fail to provide sufficient information to determine eligibility or priority scoring will not be considered for funding.

(b) Purpose eligibility. Applications must propose to establish clean energy communities through the deployment of community scale, distributed renewable energy technologies.

(c) Project eligibility. All project activities must be for the benefit of communities and their residents located in the rural service area.

(d) Environmental requirements. Applicants are cautioned against taking any actions or incurring any obligations prior to the Agency completing the environmental review that would either limit the range of alternatives to be considered or that would have an adverse effect on the environment, such as the initiation of construction. If the applicant takes any such actions or incurs any such obligations, it could result in project ineligibility. Projects involving construction are subject to the environmental requirements of 7 CFR part 1970, local building codes and all Federal, State, Tribal, and local accessibility standards.

(e) Multiple application eligibility. Only one application can be submitted per applicant and the application must be submitted by the lead applicant as defined in section III. A. of this Notice. If two applications are submitted by the same lead applicant, both applications will be determined ineligible for funding. If it is determined that an applicant is affiliated with another entity that has also applied, both applications will be deemed ineligible and will not be considered. An affiliate is an entity controlling or having the power to control another entity, or a third party or parties that control or have the power to control both entities.

(f) Grant period. The grant period is not to exceed 36 months from date of award, unless otherwise specified in the financial assistance agreement or agreed to by the Agency. Under extenuating circumstances, a one-time, no cost extension for up to 24 months may be requested by the recipient.

(g) Satisfactory progress. The advancement of grant proceeds is contingent upon satisfactory progress. Satisfactory performance includes being up to date on all financial and performance reports as prescribed in the grant award, and current on tasks and timeframes for utilizing grant and matching funds as approved in the work plan and budget. Any changes in project cost, sources of funds, scope of services, or any other significant changes in the project or applicant, must be reported to and approved in writing by the Agency.

IV. Application and Submission Information

A. Electronic Application and Submission

Applications must be submitted in form and content as described in this section. Applications must be submitted electronically. No other form of application submission will be accepted. Applications will not be accepted through mail, courier delivery, in person delivery, email, or fax. Application guidance materials including a complete application guide and submission instructions are available on the Rural Energy Pilot Program website under the To Apply tab, https://www.rd.usda.gov/programs-services/energy-programs/rural-energy-pilot-program.

B. Content and Form of Application Submission

(a) Applicants must submit required letters of intent and complete applications as noted in Section IV Application and Submission Information, by the dates identified in the DATES section of this Notice.

(b) Applications must contain all parts necessary for the Agency to determine applicant and project eligibility, conduct the technical evaluation, calculate a priority score, rank and compete the application, as applicable, in order to be considered. All applications determined to be insufficient for these purposes shall be deemed as incomplete and will not be considered for funding.

(c) Applicants must have a Dun and Bradstreet Data Universal Numbering System (DUNS) number which can be obtained at no cost via a toll-free request line at (866) 705-5711 or at https://fedgov.dnb.com/webform. Each lead applicant applying for grant funds (unless the applicant is an individual or Federal awarding agency that is excepted from the requirements under 2 CFR 25.110(b) or (c) or has an exception approved by the Federal awarding agency under 2 CFR 25.110(d)) is required to: (i) Register in the System for Award Management (SAM) before submitting its application; (ii) provide a valid unique entity identifier in its application; (iii) continue to maintain an active SAM registration with current information at all times while the Agency is considering an application or while a Federal grant award or loan is active; and, (iv) complete the Financial Assistance General Certifications and Representations in SAM. The Federal awarding agency may not make a Federal award to an applicant until the applicant has complied with all applicable unique entity identifier and SAM requirements and, if an applicant has not fully complied with the requirements by the time the Federal awarding agency is ready to make a Federal award, the Federal awarding agency may determine that the applicant is not qualified to receive a Federal award and use that determination as a basis for making a Federal award to another applicant.

Applicants should be advised that a SAM registration may require up to 10 business days or more and are strongly cautioned against waiting until the application deadline date to begin.

(d) Please note that applicants can locate information on this funding opportunity at http://www.grants.gov by using the Assistance Listing Number (10.379) or the Funding Opportunity Number (RBCS-REPP-2021). The downloadable application package for this program will be available at https://www.rd.usda.gov/programs-services/energy-programs/rural-energy-pilot-program.

(e) Letter of Intent

Applicants must submit a letter of intent (REPP LOI) prior to submitting a complete application. A Guide and instructions for submitting the REPP LOI are available on the Rural Energy Pilot Program website, under the To Apply tab, https://www.rd.usda.gov/programs-services/energy-programs/rural-energy-pilot-program.

The REPP LOI may not exceed 15 standard (8.5″ x 11″) pages with 1″ borders on all sides, including any charts, tables, diagrams and illustrations. No information provided in excess of the 15-page limitation will be considered. The REPP LOI should be in a narrative form using a minimum of 11-point font and must consist of the following components:

(1) Rural Energy Community Partnership information including:

(i) The members and structure of the partnership;

(ii) the date of Charter or Articles of Incorporation;

(iii) the governance or leadership board;

(iv) identification of the lead applicant;

(v) description of each partner's ties to the region, their roles in the execution of the REPP pilot, and any history of previous collaboration among partners;

(vi) Description of the partnerships involvement with community leadership;

(vii) Statement on whether the partnership was formed specifically to apply for the REPP Grant or for other purposes, and;

(viii) the amount and source of anticipated matching funds to be provided.

(2) Description of whether the geographic region to be served is in a rural area as defined in Section I. C. of this Notice.

(3) Description of the geographic region to be served including county names and zip codes using the five indicators listed in (i). through (vi). below, and providing supporting documentation to describe the relative economic distress and energy burdened circumstances of the geographic region to be served:

(i) Using the Distressed Communities Index 2020 DCI Interactive Map—Economic Innovation Group (eig.org), to discuss relative distress scores and economic distress characteristics of the region such as unemployment rates and income levels.

(ii). Using the Low-Income Energy Affordability Data (LEAD) Tool | Department of Energy (https://www.energy.gov/eere/slsc/maps/lead-tool) to describe relative energy burden of geographic region to be served.

(iii). Using the CDC Social Vulnerability Index, https://www.atsdr.cdc.gov/placeandhealth/svi/at-a-glance_svi.html to describe the relative environmental health burden of the geographic region to be served.

(iv). Using the OZ Activity Map—Economic Innovation Group (eig.org) to document the geographic region to be served is a Qualified Opportunity Zone.

(v). Indicating whether/which county names/zip codes in the geographic region to be served are primarily of distressed communities with high concentrations of employment in coal, oil and gas industries, and coal-fired generation facilities transitioning away from fossil fueled energy production listed among the Distressed Energy Communities identified here, https://ruraldevelopment.maps.arcgis.com/apps/webappviewer/index.html?id=86027863e066487ca1b33dc9217a70d1.

(vi). Disadvantaged communities—Provide a brief narrative with supporting information to demonstrate how the geographic region to be served meets the definition of a Disadvantaged Community.

(4) Description of how REPP resources for community energy planning, human capacity building, technical assistance, efficiency and weatherization will be used by the RECP to address the relative economic distress and energy burdened circumstances of the geographic region to be served.

(5) Identification of, to the extent possible, all distributed renewable energy technologies and activities that will be prioritized and executed by the RECP to address the relative economic distress and energy burdened circumstances of the geographic region to be served.

(i) Discussion of any specific plans, activities or priorities for solar photovoltaic renewable energy technology to be deployed.

(ii) Discussion of any specific plans, activities or priorities for renewable energy technologies other than solar photovoltaic, such as wind, geothermal, biomass, bioenergy, micro hydroelectric, to be deployed.

(iii) Discussion of any specific plans, activities or priorities for distributed energy storage or management technologies, e.g., batteries, flywheels, smart grids, etc., as defined in Section I. C. of this Notice.

(iv) Information on any electric utilities, firms or industries involved as well as any existing interconnections and networks (or lack thereof) in the geographic region to be served.

(v) Description of any participation and scale of small and disadvantaged businesses that may be involved. Describe the opportunities or potential for economic growth in the region and any competitive advantages that may exist by virtue of the RECP.

(vii) An executive summary, project action plan and scope of work, including if the proposal is a portion of a larger project (if so provide brief summary of larger project). Include the RECP's strategy, activities, budget, goals and objectives for the use of REPP funds. These objectives may include but are not limited to the ability to withstand disruptive events, economic and energy resilience, increased environmental justice, improved racial equity, expanded economic opportunity, and the stability or diversification of distributive energy resources.

Include proposed performance measures that express successes and challenges of meeting the RECP's goals and objectives and report its accomplishments during the grant period and provide annual outcome reports for three years after project completion. Performance measures may include but are not limited to renewable energy generation and energy efficiency/energy savings (measured in kilowatt hours), project sustainability and resilience measured by inclusion of institutional partners and continued commitment of project financing, and community benefits measured in terms of power purchase agreement/subscription income (in dollars per kilowatt hour), reduced greenhouse gas/carbon dioxide emissions (in metric tons of CO2 equivalence), reduced energy burdens (in percentage of household incomes), measured environmental justice, measured equity, measured economic opportunity, etc.

The applicant should also provide information on the sustainability of the RECP at the conclusion of the REPP grant period.

(6) The REPP LOI must be signed by a senior executive from the lead applicant entity who shall be responsible for the administration of the grant proceeds and activities.

(f) Complete Application

A complete application must contain all the required forms and proposal elements as described in this section. To be eligible to submit a complete application, applicants must first have submitted to the Agency a required LOI as specified in Section IV. B. (1) of this Notice. Applicants that have submitted a required LOI and have received a letter of invitation from the Agency may submit a Complete Application. A Guide and instructions for submitting the Complete Application are available on the Rural Energy Pilot Program website, under the To Apply tab, https://www.rd.usda.gov/programs-services/energy-programs/rural-energy-pilot-program.

Applications lacking sufficient information for the Agency to determine eligibility and score the application will be deemed as incomplete and will not be considered for funding. Information submitted after the application deadline will not be accepted.

The lead applicant must be registered in the System for Award Management (SAM) and submit a complete application consisting of the elements specified in Section IV. B. (2) (a)(l) as applicable to this section.

The Agency requires the following information as part of the application:

(1) Form SF-424, “Application for Federal Assistance.” In 8.a. please place DUNS (or replacement identifier number (in parentheses)) after legal name;

(2) Form SF-424C, “Budget Information- Construction Programs,”;

(3) Form SF-424D, “Assurances—Construction Programs,”;

(4) SF-LLL, “Disclosure of Lobbying Activities”;

(5) RD Form 400-1, “Equal Opportunity Agreement,”;

(6) RD Form 400-4, “Assurance Agreement”;

(7) Environmental checklist;

(8) Certification of matching funds;

(9) Certification that the lead applicant is a legal entity in good standing (as applicable) and operating in accordance with the laws of the state(s) or Tribe(s) where the applicant exists;

(10) The application must identify whether or not the lead applicant has a known relationship or association with an Agency employee. If there is a known relationship, the lead applicant must identify each Agency employee with whom the lead applicant has a known relationship; and

(11) Revisions and updates to materials submitted to the Agency with the LOI as specified in Section IV. B. (1) of this Notice.

(12) Narrative descriptions and supporting materials including proposed performance measures, as appropriate, addressing each of the priority scoring criteria in accordance with Sections V. Application Review Information, paragraphs A, and B of this Notice regarding the RECP's ability and commitment to develop of community-scale renewable energy technologies or systems; proposed community and regional objectives and impacts; geographic region to be served of significant consequence to the REPP priorities of advancing environmental justice, racial equity, and economic opportunity; strength of local support of the RECP, activities, projects, and entrepreneurial commitment; RECP's readiness to administer the REPP grant successfully; and key Administration priorities.

(13) Any other information deemed necessary and requested by the Agency due to the facts and circumstances for a particular application.

C. Submission Date and Time

(a) Letters of intent must be submitted in the manner specified for letters of intent in the DATES section of this Notice, to be eligible for grant funding.

(b) Complete applications must be submitted in the manner specified for complete applications in the DATES section of this Notice, to be eligible for grant funding.

(c) Applicants are advised to review the REPP website for instructions on registering your organization as soon as possible to ensure that you can meet the electronic application deadline. Applications will not be accepted after the deadline.

D. Intergovernmental Review of Applications

Executive Order (E.O.) 12372, “Intergovernmental Review of Federal Programs,” does not apply to this program.

E. Funding Restrictions

Funding limitations as specified in (a) thru (f), apply to applications submitted under this Notice.

(a) Only one REPP application may be submitted per REPP applicant. A REPP applicant may receive only one award in this competition. If it is determined that an applicant is affiliated with another entity that has also applied, both applications will be deemed ineligible and will not be considered.

(b) There is no minimum REPP grant award.

(c) The maximum REPP grant award is not to exceed $2,000,000.

(d) REPP grants are awarded on a cost share basis for not more than 80 percent of total eligible project costs.

(e) No REPP grant award may exceed an amount calculated as 80 percent of total eligible project costs or the maximum REPP grant award amount of $2,000,000, whichever is the lesser. Not more than 20 percent of awarded funds, or $400,000, whichever is the lesser, may be used for eligible project costs directly associated with activities to be carried out at or in direct partnership with the RECP including capacity building, community energy plans, technical assistance, and reporting results or outcomes to the Agency during the disbursement, performance, and annual reporting portions of this program, as defined in Section I.C. of this Notice, as well as materials, machinery and equipment associated with efficiency and weatherization. Administrative (indirect) costs of the grantee will not exceed 10% of the grant amount for the duration of the project. Said administrative costs limitation is to be included in the 20 percent limitation specified in this subsection.

(f) Project funds, including grant and matching funds, cannot be used for ineligible grant purposes as provided in Section IV. B. of this Notice, 2 CFR part 200, subpart E, “Cost Principles,” and the most current Federal Acquisition Regulation or successor regulations.

F. Compliance With Other Federal Statues and Other Submission Requirements

(a) Environmental information. National Environmental Policy Act. All recipients under this Notice are subject to the requirements of 7 CFR part 1970. However, technical assistance awards under this Notice are classified as a Categorical Exclusion according to 7 CFR 1970.53(b), and usually do not require any additional documentation. The Agency will review each grant application to determine its compliance with 7 CFR part 1970. The applicant may be asked to provide additional information or documentation to assist the Agency with this determination. Applicants are advised in all cases of new facilities construction to contact the RD State Environmental Coordinator to determine environmental requirements as soon as practicable.

(b) Civil Rights compliance requirements. All grants made under this Notice are subject to Title VI of the Civil Rights Act of 1964 as required by the USDA (7 CFR part 15, subpart A) and Section 504 of the Rehabilitation Act of 1973.

V. Application Review Information

The Agency's National Office will review applications to determine if they are eligible for assistance based on the requirements specified in this Notice, and other applicable Federal regulations.

A priority score will be afforded to complete applications deemed eligible to compete by an evaluation panel of subject matter experts from USDA/DOE/EPA (and others as required by the Agency), in accordance with the point allocation specified in this Notice. Given the purpose of the REPP, higher priority will be afforded to RECP projects deemed most likely to develop renewable energy to help meet our nation's energy needs and combat climate change while prioritizing environmental justice, racial equity, and economic opportunity.

Applications will be selected for funding by ranked order until the funding limitation of $10 million has been reached. Applications that cannot be fully funded may be offered partial funding at the Agency's discretion.

A. Scoring Criteria

The Agency will score each complete and eligible REPP application using the criteria specified in paragraphs (a) through (e) of this section with a maximum score of 100 points possible.

Applications will be evaluated based on the following: Impact to the community, support from relevant decision makers and community leaders, likelihood that projects can be completed, and alignment with REPP goals. Points will be allowed only for factors indicated by well-documented plans which, in the opinion of the Agency, provide assurance that the projects have a high probability of being accomplished. Points will be awarded at the discretion of the Agency to each scoring criteria with a minimum and maximum number of points available. Applicants that demonstrate the experience or ability to deliver the stated criteria will be awarded higher points in that criteria.

(a) Further develop renewable energy. Application materials demonstrate the RECP's ability and commitment to addressing Priority Considerations as specified in Section III. C., of this Notice. One point will be awarded for each of the six priority considerations being proposed to be served by the project as outlined in Section III.C.(a). Up to six points will be awarded for projects that plan, execute, or deploy renewable energy generation technologies other than solar photovoltaic of at least 40 percent of total generation capacity as measure by megawatts of alternative generation capacity/megawatts of total generation capacity. Up to six points will be awarded for projects that can be delivered within 36 months of the grant award. Up to seven points will be awarded to projects leveraging other Federal, State, Tribal, and local assistance resources for community planning, human-capacity building, technical assistance, efficiency, weatherization, and improvements in high-speed broadband service to the region.

Points are awarded on a scale of 0 to 25 with a maximum of 25 points being awarded. (b) Community and regional impacts. Application materials describe in full, the community objectives to be achieved through RECP efforts at the completion of REPP assistance. These objectives are to be identified by the community and can include the ability to withstand disruptive events, economic and energy resilience, increased environmental justice, improved racial equity, expanded economic opportunity, and the stability or diversification of distributive energy resources.

Points are awarded on a scale of 0 to 25 with a maximum of 25 points being awarded.

(c) Targeted region. Application materials should describe the geographic region to be served, including county names and zip codes, and demonstrate that the geographic region served by the RECP is of significant consequence to the REPP priorities of advancing environmental justice, racial equity, and economic opportunity.

(1) Using the Distressed Communities Index 2020 DCI Interactive Map—Economic Innovation Group (eig.org), discuss relative distress scores and economic distress characteristics of the region such as unemployment rates and income levels. A maximum of 5 points may be awarded under this sub-criteria.

(2) Using Low-Income Energy Affordability Data (LEAD) Tool | Department of Energy describe relative energy burden of geographic region to be served. A maximum of 5 points may be awarded under this sub-criteria.

(3) Using CDC Social Vulnerability Index, https://www.atsdr.cdc.gov/placeandhealth/svi/at-a-glance_svi.html describe the relative environmental health burden of the geographic region to be served. A maximum of 5 points may be awarded under this sub-criteria.

(4) Using the OZ Activity Map—Economic Innovation Group (eig.org) document the geographic region to be served as a Qualified Opportunity Zone. A maximum of 5 points may be awarded under this sub-criteria.

(5) Indicate which counties or zip codes in the geographic region to be served are primarily distressed communities with high concentrations of employment in coal, oil and gas industries, and coal-fired generation facilities transitioning away from fossil fueled energy production listed among the Distressed Energy Communities identified at: https://ruraldevelopment.maps.arcgis.com/apps/webappviewer/index.html?id=86027863e066487ca1b33dc9217a70d1. A maximum of 5 points may be awarded under this sub-criteria.

(6) Disadvantaged communities—Provide a brief narrative with supporting information to demonstrate how the geographic region meets the definition of a Disadvantaged Community. A maximum of 5 points may be awarded under this sub-criteria.

Points are awarded on a scale of 0 to 25 with a maximum of 25 points being awarded.

(d) Project and community support. Applications should demonstrate the strength of local support of the RECP, activities, projects, and entrepreneurial commitment. Points will be awarded for the RECP's demonstration of its sources of funding, personnel and technical resources committed to the project; inclusion of institutional partners expanding access to capital and willingness to potentially invest in projects emerging from the RECP. A maximum of 10 points may be awarded under this sub-criteria. Points shall also be awarded for demonstrated resources that will sustain the project beyond the term of the REPP grant period. A maximum of 5 points may be awarded under this sub-criteria.

Points are awarded on a scale of 0 to 15 with a maximum of 15 points being awarded.

(e) Demonstrated readiness and likelihood of success. Application materials demonstrate the RECP's readiness to administer the REPP grant successfully, with strong documentation to indicate the likelihood of implementing technical assistance, weatherization, energy efficiency and renewable energy projects in the community (a maximum of 3 points may be awarded under this sub-criteria); a stakeholder engagement plan (a maximum of 2 points may be awarded under this sub-criteria); the existence of an energy resilience goal (a maximum of 3 points may be awarded under this sub-criteria); and the availability or expectation of project financing (a maximum of 2 points may be awarded under this sub-criteria).

Points are awarded on a scale of 0 to 10 with a maximum of 10 points being awarded.

B. Administrator Points

The Agency retains the discretion to afford priority to applications that will advance key Administration priorities:

(1) Assist Rural communities recover economically from the impacts of the COVID-19 pandemic, particularly disadvantaged communities;

(2) Ensuring all rural residents have equitable access to RD programs and benefits from RD funded projects; and

(3) Reduce climate pollution and increasing resilience to the impacts of climate change through economic support to rural communities.

The Agency also retains the discretion to afford priority to applications that achieve geographic distribution of REPP grant awards across the maximum number of States and target diverse communities.

A maximum of up to 10 points will be awarded, with justification, at the discretion of the Administrator.

C. Review and Selection Process

The Agency's National Office will review applications to determine if they are complete and eligible for assistance based on requirements specified in this Notice, and other applicable Federal regulations. Applications so deemed, will be evaluated by an independent review panel and afforded a priority score in accordance with the point allocation as specified in Section V. A. of this Notice.

The Administrator may choose to award up to 10 Administrator priority points based on the criterion specified in Section V. B. of this Notice. Any awarded Administrator points will be added to the cumulative score for a total possible score of 110 points.

Applications will be selected for funding according to rank, beginning with the highest priority score and proceeding until the available funding is exhausted. Applications that cannot be fully funded may be offered partial funding at the Agency's discretion; as in the event of a ranked tie among two or more applications. Unfunded applications will not be carried forward into any future competition. Successful applicants must comply with requirements identified in Section VI. Federal Award Administration Information.

VI. Federal Award Administration Information

A. Federal Award Notices

Applicants selected for funding, will receive a signed Notice of Federal award by postal or electronic mail containing instructions and requirements necessary to proceed with execution and performance of the award.

Applicants selected for funding must comply with all applicable statutes, regulations, and Notice requirements before the grant award will be funded.

Applicants not selected for funding will be notified in writing and informed of any review and appeal rights. Awards to successfully appealed applications will be limited to available funding.

B. Administrative and National Policy Requirements

Additional requirements that apply to grantees selected for this program can be found in the Grants and Agreements regulations codified in 2 CFR parts 180, 400, 415, 417, 418, 421; 2 CFR parts 25 and 170; and 48 CFR 31.2, and successor regulations to these parts.

In addition, all recipients of Federal financial assistance are required to report information about first tier subawards and executive compensation (see 2 CFR part 170). Grantees are required to have the necessary processes and systems in place to comply with the Federal Funding Accountability and Transparency Act of 2006 (Pub. L. 109- 282) reporting requirements (see 2 CFR 170.200(b), unless exempt under 2 CFR 170.110(b)).

The following additional requirements apply to grantees selected for awards within this program: (a) Execution of an Agency-approved financial assistance agreement; and (b) acceptance of a written letter of conditions; and submission of the following Agency forms: (1) Form RD 1940-1, “Request for Obligation of Funds.” (2) Form RD 1942-46, “Letter of Intent to Meet Conditions.” and (3) Form RD 400-1 for construction projects.

C. Reporting

Financial and project performance reports must be provided by grantees and contain the information specified in paragraphs (1) and (2) of this section.

(1) Semi-Annual Reports. After grant approval and through grant completion, grantees are required to provide an SF-425, “Federal Financial Report,” and a performance report on a semiannual basis (due 30 working days after the end of the semiannual period). For the purposes of this grant, semiannual periods end on June 30th and December 31st.

The project performance reports shall include the following:

(a) A listing and description of all activities funded with grant proceeds and matching funds;

(b) A description or assessment of progress towards program initiatives identified in the application for the grant and a discussion of any issues or challenges which may have occurred and the steps taken to mitigate or address them; and

(c) A measurement of progress during the project period that incorporates, but is not limited to, the following performance goals as agreed to by the Agency and as specified in the letter of conditions—renewable energy generation from solar PV & alternative renewable energy systems (in thousands of kilowatt hours); energy savings from efficiency & weatherization (in hundreds of kilowatt hours); project sustainability & resilience; and community benefits such as but not limited to power purchase agreement/subscription income (in dollars per kilowatt hour), reduced greenhouse gas/carbon dioxide emissions (in metric tons of CO2 equivalence), reduced energy burdens (in percentage of household incomes), measured environmental justice, measured equity, and measured economic opportunity.

(2) Annual Outcome Reports. Upon project completion, grantees are required to provide an annual outcome report for three years. The first report is due at the completion of the first full calendar year following the year in which the project was completed. The remaining reports are required for subsequent calendar years. Reports are due January 31st. The annual outcome report shall continue to incorporate the performance goals as identified in VI. C. 1 (c) above (reported on an annual basis), as well as any other measures specified in the financial assistance agreement and letter of conditions.

VII. Agency Contacts

For further information contact: Anthony Crooks: telephone (202)205-9322, email: RuralEnergyPilotProgram@usda.gov or consult the REPP program web page at https://www.rd.usda.gov/programs-services/energy-programs/rural-energy-pilot-program where program guidance as well as application and matching funds templates may be obtained.

VIII. Other Information

A. Paperwork Reduction Act

In accordance with the Paperwork Reduction Act of 1995 (44 U.S.C. chapter 35), RBCS requested that the Office of Management and Budget (OMB) conduct an emergency review by January 19, 2022 of a new information collection that contains the Information Collection and Recordkeeping requirements contained in this notice. In addition to the emergency clearance, the regular clearance process is hereby being initiated to provide the public with the opportunity to comment under a full comment period, as the Agency intends to request regular approval from OMB for this information collection. Comments from the public on new, proposed, revised, and continuing collections of information help the Agency assess the impact of its information collection requirements and minimize the public's reporting burden.

Comments may be submitted regarding this information collection by the following method:

• Federal eRulemaking Portal: Go to https://www.regulations.gov, and, in the lower “Search Regulations and Federal Actions” box, select “RBCS” from the agency drop-down menu, then click on “Submit.” In the Docket ID column, select Docket No. RBS-21-Business-0030 to submit or view public comments and to view supporting and related materials available electronically. Information on using Regulations.gov, including instructions for accessing documents, submitting comments, and viewing the docket after the close of the comment period, is available through the site's “User Tips” link.

The burden for the REPP collection of information includes both the upfront one-time application and the on-going reporting, which will include mid-year and an annual reporting. The reporting may include additional reports for projects that run longer. Comments are invited on (a) the accuracy of the agency's estimate of burden including the validity of the methodology and assumption used; (b) ways to enhance the quality, utility, and clarity of the information to be collected; and (c) ways to minimize the burden of the collection of information on those who are to respond, including using appropriate automated, electronic, mechanical, or other technological collection techniques on other forms and information technology.

Title: Rural Energy Pilot Program (REPP).

OMB Control Number: 0570-New.

Type of Request: New Information Collection.

Abstract: The purpose of the REPP to further develop renewable energy to help meet our nation's energy needs and combat climate change while prioritizing environmental justice, racial equity, and economic opportunity.

Cost-share grants of up to 80 percent of total eligible project costs but not more than $2 million will be made available to assist eligible entities with developing, installing, equipping, and maintaining community scale distributive energy resources

The information solicited from applications by this NOFO is required to (1) determine whether participants meet the eligibility requirements to be a recipient of grant funds; (2) evaluate project eligibility; (3) determine technical and financial viability; (4) calculate priority scores and rank in order to compete the applications for funding. Lack of adequate information for these purposes could result in the improper administration and appropriation of Federal grant funds.

Estimate of Burden: Public reporting burden for this collection of information is estimated to average 11 hours per response.

Estimated Number of Respondents: 25.

Estimated Total Annual Responses: 325.

Estimated Total Recordkeeping Hours: 15.

Estimated Total Burden Hours: 3,462.

Estimated Total Annual Burden (including recordkeeping) on Respondents: 3,477 hours.

Copies of this information collection can be obtained from MaryPat Daskal, Regulatory Division Team 2, Rural Development Innovation Center, U.S. Department of Agriculture, 1400 Independence Ave. SW, Washington, DC 20250. Phone: 202-690-4492. All responses to this information collection and recordkeeping Notice will be summarized and included in the request for OMB approval. All comments will also become a matter of public record.

B. Nondiscrimination Statement

In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Karama Neal,
Administrator, Rural Business-Cooperative Service.

[FR Doc. 2022-00943 Filed 1-18-22; 8:45 am]

BILLING CODE 3410-XY-P